ENVIRONMENTAL PROTECTION AGENCY

[FRL-8702-2]

Notice of Availability of “Award of Special Appropriations Act Project Grants Authorized by the Agency's FY 2008 Appropriations Act”

AGENCY: Environmental Protection Agency (EPA).

ACTION: Notice of document availability.

SUMMARY: EPA is announcing the availability of a memorandum entitled “Award of Special Appropriations Act Project Grants Authorized by the Agency's FY 2008 Appropriations Act.” This memorandum provides information and guidelines on how EPA will award and administer grants for the special projects identified in the State and Tribal Assistance Grants (STAG) account of the Agency's FY 2008 Appropriations Act (Pub. L. 110-161). The STAG account provides budget authority for funding identified water, wastewater and groundwater infrastructure projects. Each grant recipient will receive a copy of this document from EPA.

ADDRESSES: The subject memorandum may be viewed and downloaded from EPA's homepage, http://www.epa.gov/owm/cwfinance/cwsrf/law.htm.

FOR FURTHER INFORMATION CONTACT: George Ames, (202) 564-0661 or ames.george@epa.gov.

Dated: June 17, 2008.
James A. Hanlon,
Director, Office of Wastewater Management.

[FR Doc. E8-18332 Filed 8-7-08; 8:45 am]

BILLING CODE 6560-50-P